ENVIRONMENTAL PROTECTION AGENCY

[ER-FRL-6682-1]

Environmental Impact Statements; Notice of Availability

Responsible Agency: Office of Federal Activities, General Information (202) 564-7167 or http://www.epa.gov/compliance/nepa/.

Weekly receipt of Environmental Impact Statements

Filed 12/05/2006 Through 12/08/2006

Pursuant to 40 CFR 1506.9.

EIS No. 20060501, Draft EIS, BLM, 00, Yuma Field Office (YFO) Resource Management Plan, Provide Direction Managing Public Lands, Implementation, Yuma, La Paz and Maricopa Counties, AZ and Imperial and Riverside Counties, CA, Comment Period Ends: 03/15/2007, Contact: Micki Bailey 928-317-3215.

EIS No. 20060502, Draft EIS, NPS, CA, Giacomini Wetland Restoration Project, Propose to Restore Natural Hydrologic and Ecological Processes, Golden Gate National Recreation Area, Point Reyes National Seashore, Marin County, CA, Comment Period Ends: 01/29/2007, Contact: Loraine Parsons 415-464-5100.

EIS No. 20060503, Final EIS, FHW, 00, Interstate 69 Section of Independent Utility #9, Construction from the Interstate 55/MS State Route 304 Interchange in Hernando, MS to the Intersection of U.S. 51 and State Route 385 in Millington, TN, Desoto and Marshall Counties, MS and Shelby and Fayette Counties, TN, Wait Period Ends: 01/16/2007, Contact: Karen M. Brunelle 615-781-5772.

EIS No. 20060504, Final EIS, IBR, CA, South Delta Improvements Program, To Improve Water Quality, Water Conveyance, and Fish Habitat Conditions, Central Valley Project, U.S. Army COE Section 404 Permit, South Sacramento-San Joaquin River Delta, Several Counties, CA, Wait Period Ends: 01/16/2007, Contact: Sharon McHale 916-978-5086.

EIS No. 20060505, Draft EIS, NOA, 00, South Atlantic Snapper Grouper Fishery, Amendment 14 to Establish Eight Marine Protected Areas in Federal Waters, Implementation, South Atlantic Region, Comment Period Ends: 01/29/2007, Contact: Cristi Reid 301-713-1622 Ext 206.

EIS No. 20060506, Final EIS, COE, SC, Charleston Naval Complex (CNC), Proposed Construction of a Marine Container Terminal, Cooper River in Charleston Harbor, City of North Charleston, Charleston County, SC, Wait Period Ends: 01/16/2007, Contact: Nathaniel I. Ball 1-866-329-8187.

EIS No. 20060507, Draft EIS, FHW, UT, South Logan to Providence Transportation Corridor Project, Improvements to 100 East Street between 300 South (Logan) to Providence Lane (100 North) in Providence, Funding and Right-of Way Grant, Cities of Logan and Providence, Cache County, UT, Comment Period Ends: 01/29/2007, Contact: Todd Emery 801-963-0078 Ext 235.

EIS No. 20060508, Draft Supplement, STB, TX, Southwest Gulf Railroad Project, Additional Information to Proposed Rail Line Construction and Operation Exemption, To Transport Limestone from Vulcan Construction Materials (VCM) Quarry to Del Rio Subdivision, Medina County, TX, Comment Period Ends: 01/29/2007, Contact: Rini Ghosh 202-565-1539.

EIS No. 20060509, Draft EIS, SFW, WA, Hanford Reach National Monument Comprehensive Conservation Plan, Management of Monument Resources, Programs and Visitors for the next 15 years, Adams, Benton, Franklin and Grant Counties, WA, Comment Period Ends: 02/23/2007, Contact: Charles Houghten 503-231-2096.

EIS No. 20060510, Draft EIS, NRC, MA, Generic—License Renewal of Nuclear Plants, Supplement 29 to NUREG-1437, Regarding the License Renewal of Pilgrim Nuclear Power Station, Cape Cod Bay, Town of Plymouth, Plymouth County, MA, Comment Period Ends: 02/28/2007, Contact: Alicia Williamson 301-415-1878.

EIS No. 20060511, Final EIS, DOE, 00, Strategic Petroleum Reserve Expansion, Site Selection of Five New Sites: Chacahoula and Clovelly, in Lafourche Parish, LA; Burinsburg, Claiborne County, MS; Richton, Perry County, MS; and Stratton Ridge, Brazoria County, TX and Existing Site Bayou Choctaw, Iberville Parish, LA, West Hackberry, Cameron and Calcasieu Parishes, LA; and Big Hill, Jefferson County, TX, Wait Period Ends: 01/16/2007, Contact: Donald Silawsky 202-586-1892.

EIS No. 20060512, Draft Supplement, BLM, WY, Pinedale Anticline Oil and Gas Exploration and Development Project, Updated Information a Proposal for Long-Term Development with Year Round Drilling, Sublette County, WY, Comment Period Ends: 02/12/2007, Contact: Matt Anderson 307-367-5328.

Amended Notices

EIS No. 20060378, Draft EIS, NPS, 00, Programmatic—Servicewide Benefits Sharing Project, To Clarify the Rights and Responsibilities of Researchers and National Park Service (NPS) Management in Connection with the Use of Valuable Discoveries, Inventions, and Other Developments across the United States, Comment Period Ends: 01/29/2007, Contact: Susan M. Mills 307-344-2203.

Revision of FR Notice Published 09/22/2006: Extending Comment Period from 12/15/2006 to 01/29/2007.

EIS No. 20060431, Draft EIS, COE, NC, PCS Phosphate Mine Continuation, Proposes Continue Mining of the Phosphate Reserve in an Economically Viable Fashion, Beaufort County, NC, Comment Period Ends: 01/27/2007, Contact: Tom Walker 838-271-7980 Ext 222.

Revision of FR Notice Published 10/20/2006; Comment Period Extended from 12/06/2006 to 01/27/2007.

EIS No. 20060449, Draft EIS, AFS, ID, Salmon-Challis National Forest, Lost River/Lemhi Grazing Allotments, To Improve Range Condition and Trend, Lost River and Challis Ranger Districts, Salmon-Challis National Forest, Butte, Clark, Custer and Lemhi Counties, ID, Comment Period Ends: 02/02/2007, Contact: Karry Krieger 208-756-5102.

Revision to FR Notice Published 11/03/2006: Extending Comment Period from 12/18/2006 to 02/02/2007.

Dated: December 11, 2006.
Robert W. Hargrove,
Director, NEPA Compliance Division, Office of Federal Activities.

[FR Doc. E6-21406 Filed 12-14-06; 8:45 am]

BILLING CODE 6560-50-P